DEPARTMENT OF VETERANS AFFAIRS

[OMB Control No. 2900-0376]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before February 12, 2001.

FOR FURTHER INFORMATION CONTACT: Denise McLamb, Information Management Service (045A4), Department of Veterans Affairs, 810 Vermont Avenue, NW., Washington, DC 20420, (202) 273-8030 or FAX (202) 273-5981. Please refer to “OMB Control No. 2900-0376.”

SUPPLEMENTARY INFORMATION: Title: Agent Orange Registry Code Sheet, VA Form 10-9009.

OMB Control Number: 2900-0376.

Type of Review: Reinstatement, with change, of a previously approved collection for which approval has expired.

Abstract: The Agent Orange Registry Code Sheet is used to obtain information from veterans during an interview with the examining physician and Agent Orange Coordinator or other designated personnel. The information obtained is encoded onto the code sheet and entered into a computerized Agent Orange Registry. The registry provides a mechanism to catalogue prominent symptoms, reproductive health, diagnoses and enables VA to communicate with Agent Orange veterans through newsletters. The newsletter informs veterans of any increased health risks resulting from exposure to dioxin or other toxic agents, research finding or new compensation policies.

An agency may not conduct or sponsor, and a person is not required to respond to a collection of information unless it displays a currently valid OMB control number. The Federal Register Notice with a 60-day comment period soliciting comments on this collection of information was published on May 16, 2000, at pages 31209-31210.

Affected Public: Individuals or households.

Estimated Annual Burden: 1,833 hours.

Estimated Average Burden Per Respondent: 20 minutes.

Frequency of Response: One time.

Estimated Number of Respondents: 5,500.

Send comments and recommendations concerning any aspect of the information collection to VA's OMB Desk Officer, OMB Human Resources and Housing Branch, New Executive Office Building, Room 10235, Washington, DC 20503 (202) 395-7316. Please refer to “OMB Control No. 2900-0376” in any correspondence.

Dated: November 28, 2000.
By direction of the Secretary.
Barbara H. Epps,
Management Analyst, Information Management Service.

[FR Doc. 01-826 Filed 1-10-01; 8:45 am]

BILLING CODE 8320-01-P